DEPARTMENT OF STATE

[Public Notice: 9543]

Notice of Renewal of the Advisory Committee on International Law Charter

The Department of State has renewed the charter of the Advisory Committee on International Law. ACIL is a critical forum for receiving informed public opinion and specialized advice on important legal matters. The Committee follows procedures prescribed by the Federal Advisory Committee Act (FACA). Its meetings are open to the public unless a determination is made in accordance with the FACA and 5 U.S.C. 552b(c) that a meeting or portion of a meeting should be closed to the public. Notice of each meeting will be published in the Federal Register at least 15 days prior to the event, unless extraordinary circumstances require shorter notice. For further information, please contact Julian Simcock, Executive Director, Advisory Committee on International Law, Department of State, at 202-776-8477 or simcockjc@state.gov.

Dated: April 26, 2016.
Julian Simcock,
Attorney Adviser, Office of the Legal Adviser, Department of State.

[FR Doc. 2016-10221 Filed 4-29-16; 8:45 am]

BILLING CODE 4710-08-P